DEPARTMENT OF LABOR

Employment and Training Administration

[TA-W-53,169]

Dresser, Inc., Dresser Piping Specialties Division, Bradford, PA; Notice of Affirmative Determination Regarding Application for Reconsideration

By letter of January 23, 2004, a company official requested administrative reconsideration of the Department's determination regarding eligibility to apply for Trade Adjustment Assistance (TAA) applicable to workers and former workers of the subject firm.

The Department's negative determination was issued on December 24, 2003, and the notice of determination was published in the Federal Register on January 16, 2004 (69 FR 2622).

In a March 11, 2004, communication, the petitioner alleged that the Department incorrectly interpreted previously submitted information. In various subsequent submissions, the petitioner provided new information that indicated that the Department may have conducted the initial investigation on the wrong product.

The Department has reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 16th day of June 2004.
Elliott S. Kushner,
Certifying Officer, Division of Trade Adjustment Assistance.

[FR Doc. 04-14791 Filed 6-29-04; 8:45 am]

BILLING CODE 4510-30-P